DEPARTMENT OF TRANSPORTATION

National Highway Traffic Safety Administration

[Docket No. NHTSA-2024-0004]

Agency Information Collection Activities; Notice and Request for Comment; National Roadside Survey of Alcohol and Drug Prevalence of Road Users: 2025

AGENCY: National Highway Traffic Safety Administration (NHTSA), Department of Transportation (DOT).

ACTION: Notice and request for public comment on proposed new collection of information.

SUMMARY: The National Highway Traffic Safety Administration (NHTSA) invites public comments about our intention to request approval from the Office of Management and Budget (OMB) for a new information collection. Before a Federal agency can collect certain information from the public, it must receive approval from OMB. Under procedures established by the Paperwork Reduction Act of 1995, before seeking OMB approval, Federal agencies must solicit public comment on proposed collections of information, including extensions and reinstatement of previously approved collections. This document describes a collection of information for which NHTSA intends to seek OMB approval for a National Roadside Survey (NRS) of alcohol and other drug prevalence among drivers and other road users (ORUs; e.g., pedestrians, bicyclists, electric scooter riders, and those with mobility aids. NHTSA will conduct two studies. Study 1 will focus on drivers but include convenience sampling of ORUs passing by the driver data collection locations. Study 2 is a pilot test assessing the feasibility of an NRS specific to ORUs. Both will collect breath and oral fluid specimens, demographic information, and self-report questionnaire data on roads across the country. Participation will be voluntary and anonymous.

DATES: Comments must be received on or before January 21, 2025.

ADDRESSES: You may submit comments identified by Docket No. NHTSA-2024-0004 using any of the following methods:

• Electronic submissions: Go to http://www.regulations.gov. Follow the online instructions for submitting comments.

• Fax: 1-202-493-2251.

• Mail or Hand Delivery: Docket Management Facility, U.S. Department of Transportation, 1200 New Jersey Avenue SE, West Building between 9 a.m. and 5 p.m., Monday through Friday, except Federal holidays. To be sure someone is there to help you, please call (202) 366-9322 before coming.

Instructions: Each submission must include the agency name and the docket number for this Notice. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit https://www.transportation.gov/privacy.

Docket: For access to the docket to read background documents or comments received, go to http://www.regulations.gov or the street address listed above. Follow the online instructions for accessing the dockets via internet.

FOR FURTHER INFORMATION CONTACT: For additional information or access to background documents, contact Ms. Amy Berning, Contracting Officer's Representative, Office of Behavioral Safety Research (NPD-310), (202) 366-5587, National Highway Traffic Safety Administration, 1200 New Jersey Avenue SE, Washington, DC 20590.

SUPPLEMENTARY INFORMATION: Under the Paperwork Reduction Act of 1995 (PRA) (44 U.S.C 3501 et seq.), before an agency submits a proposed collection of information to OMB for approval, it must first publish a document in the Federal Register providing a 60-day comment period and otherwise consult with members of the public and affected agencies concerning each proposed collection of information. The OMB has promulgated regulations describing what must be included in such a document. Under OMB's regulations (at 5 CFR 1320.8(d)), an agency must ask for public comment on the following: (i) whether the proposed collection of information is necessary for the proper performance of the functions of the agency, including whether the information will have practical utility; (ii) the accuracy of the agency's estimate of the burden of the proposed collection of information, including the validity of the methodology and assumptions used; (iii) how to enhance the quality, utility, and clarity of the information to be collected; and (iv) how to minimize the burden of the collection of information on those who are to respond, including the use of appropriate automated, electronic, mechanical, or other technological collection techniques or other forms of information technology, for example, permitting electronic submission of responses. In compliance with these requirements, NHTSA asks for public comments on the following proposed collection of information for which the agency is seeking approval from OMB.

Title: National Roadside Survey of Alcohol and Drug Prevalence of Road Users: 2025.

OMB Control Number: New.

Form Numbers: NHTSA Form 1762, NHTSA Form 1763, and NHTSA Form 1764.

Type of Request: New information collection.

Type of Review Requested: Regular.

Requested Expiration Date of Approval: 3 years from date of approval.

Summary of the Collection of Information

NHTSA is seeking approval to conduct two studies. Study 1 will focus on drivers but include convenience sampling of ORUs passing by the data collection locations. Study 2 is a Pilot Test assessing the feasibility of an NRS specific to ORUs. Both will collect breath and oral fluid specimens, demographic information, and self-report questionnaire data on roads across the country. Participation will be voluntary and anonymous.

Study 1 will recruit drivers at the roadside to test for alcohol and other selected drugs known, or suspected, to impair cognitive and motor skills important for driving safety. The study will operate data collection research teams across the country to collect breath samples, oral fluid specimens, and questionnaire data to be analyzed to achieve NHTSA's research objectives. The study will allow NHTSA to estimate the population-level prevalence of alcohol- and other drug-positive driving on roadways in the U.S. for the selected days and times. Information will also be requested from other road users who pass by the Study 1 data collection locations.

Study 2 examines the viability of a stand-alone roadside nationwide survey focused solely on ORUs. This effort uses 20 new data collection locations, inclusive of 4 PSUs with 5 locations in each. This effort is to inform NHTSA on the feasibility of such a targeted roadside survey, and to determine the level of effort to execute a nationwide study of ORUs. The same procedures as Study 1 will be used.

Description of the Need for the Information and Proposed Use of the Information

NHTSA was established to reduce deaths, injuries, and economic losses resulting from motor vehicle crashes on the Nation's highways. As part of this statutory mandate, NHTSA is authorized to conduct research for the development of traffic safety programs. Subchapter V of Chapter 301 of Title 49 of the United States Code (U.S.C.) authorizes the Secretary of Transportation to conduct motor vehicle safety research. 49 U.S.C. 30182. Pursuant to Section 1.95 of Title 49 of the Code of Federal Regulations (CFR), the Secretary has delegated this authority to the National Highway Traffic Safety Administration (NHTSA). Additionally, Title 23, United States Code, Chapter 4, Section 403 gives the Secretary of Transportation (NHTSA by delegation) authorization to use funds appropriated to conduct research and development activities. The agency develops, promotes, and implements educational, engineering, and enforcement programs with the goal of ending preventable tragedies and reducing economic costs associated with vehicle use and highway travel. Current data is essential to develop appropriate approaches to improve traffic safety. This is especially true for information on impaired driving, both for alcohol, and for drug use and driving where data is much more limited.

Drugs affect biology, perception, psychomotor ability, and behavior. With the exception of alcohol, however, relatively little is known about the prevalence of drugged driving currently on U.S. roadways because of the complexities associated with collecting, analyzing, and reporting information on other drug use. Given the number of States legalizing medicinal and/or recreational use of cannabis, and other issues such as the apparent increase in opioid use in the U.S., more information is needed on the level of alcohol-involved and other drug-involved driving on the nation's roadways to better inform NHTSA's countermeasure development efforts.

NHTSA and other traffic safety stakeholders have sought to learn about these issues through varied methodological approaches. For Study 1, researchers will collaborate with State and local officials to collect data at the roadside at 300 roadway locations (60 primary sampling units [PSUs], also known as “sites,” with 5 roadway locations each) across the country. Roadside surveys such as this provide objective measures of alcohol and other drugs in drivers' systems at the time they are actually driving, based on tests results from breath samples and oral fluid samples collected using established sample collection methods. All samples will then be tested, and results confirmed by a leading forensic by a leading forensic toxicology laboratory. This approach will allow for the estimation of alcohol and other drug prevalence among the non-crash-involved general driving population in the U.S. for the selected days and times studied.

Study 1 also explores whether it is possible to collect information from ORUs encountered at the driver data collection locations including individuals in transit on foot, on a bicycle, electric scooter, or with a mobility aid.

Study 2 is a separate test to determine the viability of a stand-alone roadside survey focused solely on ORUs (i.e., excluding drivers) to estimate the population level prevalence of alcohol and other drug use among other road user types for specified days and times. Study 2 will select 20 new data collection locations to recruit a convenience sample of ORUs.

The results of this project will assist NHTSA as the agency develops its programmatic activities aimed at reducing crashes and fatalities that may be associated with the use of alcohol and/or other drugs. It is expected the results of this study will be compared to future studies to monitor alcohol and other drug prevalence trends over time on the nation's roadways.

Frequency of Collection: Both Study 1 and Study 2 are one-time data collections. Because 5 data collection locations are located in each PSU, there is a remote chance an individual could participate more than once in either effort. Because data collection is anonymous, it will not be possible to know if an individual participates more than once. However, this is not likely and not expected, as potential participants will not know data collection locations or times ahead of time, and the time at any location will be limited.

Affected Public: Study 1 will recruit volunteers who are drivers of passenger motor vehicles on active roadways at the 300 selected sampling locations. ORUs passing by the Study 1 data collection locations will also be recruited to participate. The site and location sampling are based on recruitment of drivers. For ORUs, participants will be recruited to the extent they are available at the locations.

Study 2 will focus specifically on ORUs (i.e., excluding drivers) at 20 new sampling locations across 4 PSUs to assess the feasibility of conducting a stand-alone nationwide roadside survey on these vulnerable road user populations.

Estimated Number of Respondents: Study 1 expects to contact approximately 11,750 drivers with 9,000 agreeing to participate. Based on the last NRS results, it is expected 8,000 drivers will fully participate and 1,000 will partially participate (i.e., stops providing information before full data collection is complete). Study 1 also expects to contact 750 ORUs at the Study 1 data collection locations with 500 fully participating and 60 partially participating.

Study 2 of only ORUs expects to contact approximately 750 individuals with 500 fully participating and 60 partially participating.

Estimated Total Annual Burden Hours: The total annual burden hours for the two studies is estimated to be 531 hours. The total amount of burden across both studies combined is estimated to be 1,593 hours. This includes approximately 1,500 hours for the 9,000 participants (8,000 Study 1 drivers, 500 Study 1 ORUs, 500 Study 2 ORUs) who will fully participate. The expected completion time for each individual is 10 minutes. The remaining 93 hours is for the 1,120 people who will partially participate (1,000 Study 1 drivers, 60 Study 1 ORUs, 60 Study 2 ORUs). It is expected these individuals will spend 5 minutes on average for partial participation.

The total amount of burden cost to respondents to participate across both studies is estimated to be $72,640 (see Table 1). The total annual burden cost to respondents is $24,213.

Table 1—Summary of Total Burden Hours and Estimated Costs by Respondent Type
Type of respondent | Number of respondents | Minutes per respondent | Hourly wage + 30% fringe ($35.07 + $10.52)* | Total estimated burden hours | Estimated cost
Study 1 (NRS):
Driver fully participates | 8,000 | 10 | $45.59 | 1,333.33 | $60,786.51
Driver partially participates | 1,000 | 5 | 45.59 | 83.33 | 3,799.01
Subtotal |  |  |  |  | 64,585.52
ORU fully participates | 500 | 10 | 45.59 | 83.33 | 3,799.01
ORU partially participates | 60 | 5 | 45.59 | 5 | 227.95
Subtotal |  |  |  |  | 4,026.96
Total |  |  |  | 1,504.99 (1,505) | 68,612.48 (68,612)
Study 2 (ORU Pilot):
ORU fully participates | 500 | 10 | 45.59 | 83.33 | 3,799.01
ORU partially participates | 60 | 5 | 45.59 | 5 | 227.95
Total |  |  |  | 88.33 (88) | 4,026.96 (4,027)
Both Studies Combined:
Fully participates | 9,000 | 10 | 45.59 | 1,500.00 | 68,385.00
Partially participates | 1,120 | 5 | 45.59 | 93.33 | 4,254.91
Grand Total | 10,120 |  |  | 1,593.33 (1,593) | 72,639.91 (72,640)
* See July 2024 total private average hourly wages from the U.S. Bureau of Labor Statistics at https://www.bls.gov/news.release/empsit.t19.htm; Fully loaded wage is inclusive of a 30% addition to the base hourly wage to account for fringe benefits.

Estimated Total Annual Burden Cost: Participation in this study is voluntary and there are no costs to respondents beyond the time spent hearing about the study and participating in data collection if they decide to participate. Participants will incur no burden related to annual reporting or record keeping due to the collection of this new information.

Public Comments Invited: You are asked to comment on any aspects of this information collection, including (i) whether the proposed collection of information is necessary for the proper performance of the functions of the Department, including whether the information will have practical utility; (ii) the accuracy of the Department's estimate of the burden of the proposed information collection; (iii) ways to enhance the quality, utility and clarity of the information to be collected; and (iv) ways to minimize the burden of the collection of information on respondents, including the use of automated collection techniques or other forms of information technology.

Authority: The Paperwork Reduction Act of 1995; 44 U.S.C. Chapter 35, as amended; 49 CFR 1.49; and DOT Order 1351.29.

Nanda Narayanan Srinivasan,
Associate Administrator, Research and Program Development.

[FR Doc. 2024-27043 Filed 11-19-24; 8:45 am]

BILLING CODE 4910-59-P